DEPARTMENT OF VETERANS AFFAIRS

Department of Veterans Affairs Voluntary Service National Advisory Committee, Notice of Meeting

The Department of Veterans Affairs (VA) gives notice under the Federal Advisory Committee Act, 5 U.S.C. ch. 10, that the VA Voluntary Service National Advisory Committee (Committee) will meet May 14-16, 2024 at the Hyatt Regency St. Louis At The Arch located at 315 Chestnut Street, St. Louis, Missouri 63102. The meeting sessions will begin and end as follows:

Meeting date(s) | Meeting time(s)
Tuesday, May 14, 2024 | 8:30 a.m. to 7:30 p.m. Central Time (CT).
Wednesday, May 15, 2024 | 8:30 a.m. to 5:00 p.m. CT.
Thursday, May 16, 2024 | 8:30 a.m. to 5:00 p.m. CT.

The meeting sessions are open to the public.

The Committee, comprised of 56 major Veteran, civic, and service organizations, advises the Secretary, through the Under Secretary for Health, on the coordination and promotion of volunteer activities and strategic partnerships within VA health care facilities, in the community, and on matters related to volunteerism and charitable giving.

Agenda topics will include the Committee goals and objectives; review of minutes from the April 26-28, 2023 meeting; an update on VA Center for Development and Civic Engagement (CDCE) activities; Veterans Health Administration (VHA) update; Federal Advisory Committee Act training provided by the VA Advisory Committee Management Office; subcommittee reports; review of standard operating procedures; assessment of member organization data; embracing whole health; patient advocacy; innovation for optimal patient outcomes; partnering with Veterans Canteen Service; cross committee collaboration among Federal advisory committees; extending programming into communities; equity focused implementation mapping; VHA's journey to high reliability; recognition of outstanding programs and individuals; and any new business.

The public may engage the Committee in writing or through oral presentation. To participate orally, please contact Sabrina C. Clark, Ph.D., Designated Federal Officer, VA Center for Development and Civic Engagement (15CDCE), Department of Veterans Affairs, 810 Vermont Avenue NW, Washington, DC 20420, or email at Sabrina.Clark@va.gov. Any member of the public wishing to attend the meeting or seeking additional information should contact Dr. Clark at 202-536-8603.

Dated: April 25, 2024.
Jelessa M. Burney,
Federal Advisory Committee Management Officer.

[FR Doc. 2024-09310 Filed 4-29-24; 8:45 am]

BILLING CODE 8320-01-P